FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than July 8, 2020.

A. Federal Reserve Bank of Kansas City (Dennis Denney, Assistant Vice President) 1 Memorial Drive, Kansas City, Missouri 64198-0001:

1. The Richard Earl Carter Irrevocable Trust dated 6/10/09 (REC Trust) and the Megan Nicole Dunn Irrevocable Trust dated 6/10/09 (MND Trust), both of Stigler, Oklahoma; and Frederick Michael Butler, Stigler, Oklahoma, and Eva L. White, Muskogee, Oklahoma, as co-trustees of the REC Trust and the MND Trust, to acquire voting shares of Stigler Bancorporation, Inc., Stigler, Oklahoma, and thereby indirectly acquire shares of The First National Bank of Stigler, Stigler, Oklahoma. Additionally, Frederick Michael Butler; Kerri L. Butler, Stigler, Oklahoma; the REC Trust; the MND Trust; and Eva L. White, as members of a group acting in concert, to acquire voting shares of Stigler Bancorporation, Inc.

Board of Governors of the Federal Reserve System, June 18, 2020.
Yao-Chin Chao,
Assistant Secretary of the Board.

[FR Doc. 2020-13517 Filed 6-22-20; 8:45 am]

BILLING CODE P